DEPARTMENT OF ENERGY

Federal Energy Regulatory Commission

[Docket No. RP03-307-000]

Transwestern Pipeline Company; Notice of Tariff Filing

March 20, 2003.

Take notice that on March 18, 2003, Transwestern Pipeline Company (Transwestern) tendered for filing as part of its FERC Gas Tariff, Second Revised Volume No. 1, the following tariff sheets to become effective April 14, 2003:

Fourth Revised Sheet No. 18

Eighth Revised Sheet No. 19

Twelfth Revised Sheet No. 20

Fifth Revised Sheet No. 84

Fifth Revised Sheet No. 95

Eighth Revised Sheet No. 95A

Eighth Revised Sheet No. 95B

Ninth Revised Sheet No. 95B.01

Ninth Revised Sheet No. 95F

Eighth Revised Sheet No. 95H

Fourth Revised Sheet No 95I

Fifth Revised Sheet No. 95J

Seventh Revised Sheet No. 95K

Ninth Revised Sheet No. 95L

Transwestern states that the instant filing is to reflect changes to the ROFR and Capacity Release provisions of its tariff in order to make those provisions consistent with current Commission policies and orders in other recent Transwestern proceedings.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 31, 2003.

Magalie R. Salas,
Secretary.

[FR Doc. 03-7331 Filed 3-26-03; 8:45 am]

BILLING CODE 6717-01-P